DEPARTMENT OF ENERGY

Federal Energy Regulatory Commission

[Docket No. CP06-395-000]

Questar Pipeline Company & Questar Overthrust Pipeline Company; Notice of Application

June 23, 2006.

On June 16, 2006, Questar Pipeline Company (QPC) and Questar Overthrust Pipeline Company (Overthrust), pursuant to sections 7(b) and 7(c) of the Natural Gas Act, as amended, and section 157 of the Federal Energy Regulatory Commission's (Commission) regulations jointly requested authorization for QPC to abandon by sale Tie Line (TL) 90 and Jurisdictional Lateral (JL) 99. TL 90 consists of 20.3 miles of 20-inch diameter pipeline and a metering & regulation station located in Uinta and Lincoln Counties, Wyoming, and JR 99 consists of 0.22 miles of 10.75-inch diameter pipeline, a delivery and receipt point and associated facilities located in Lincoln County, Wyoming. In addition, a certificate of public convenience and necessity is requested for Overthrust to acquire and operate the facilities abandoned by QPC.

Questions concerning the application should be directed to: Lenard G. Wright, Manager, Federal Regulatory Affairs at Questar Pipeline Company, 180 East 100 South, P.O. Box 45360, Salt Lake City, Utah 84145-0360. He also may be contacted at (801) 324-2459, (801) 324-5834 fax, or lenard.wright@questar.com.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a) (1) (iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 14, 2006.

Magalie R. Salas,
Secretary.

[FR Doc. E6-10313 Filed 6-29-06; 8:45 am]

BILLING CODE 6717-01-P